DEPARTMENT OF VETERANS AFFAIRS

[OMB Control No. 2900-0715]

Agency Information Collection Activity Under OMB Review: Servicer's Staff Appraisal Reviewer (SAR) Application

AGENCY: Loan Guaranty Service, Department of Veterans Affairs.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before February 20, 2018.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0715” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0715” in any correspondence.

SUPPLEMENTARY INFORMATION: Under the PRA of 1995, Federal agencies must obtain approval from the Office of Management and Budget (OMB) for each collection of information they conduct or sponsor. This request for comment is being made pursuant to Section 3506(c)(2)(A) of the PRA.

Authority: Public Law 104-13; 44 U.S.C. 3501-3521.

Title: VA FORM 26-0829, Lender's Staff Appraisal Reviewer (SAR) Application.

OMB Control Number: 2900-0715.

Type of Review: Extension of a currently approved collection.

Abstract: The major use of the form is to collect data necessary for Department of Veterans Affairs (VA) compliance with the requirements of 38 U.S.C. 3702(d) and 38 CFR 36.4344. Title 38 U.S.C. 3702(d) authorizes VA to establish standards for servicers liquidating automatically guaranteed loans and 38 CFR 36.4344 establishes requirements and procedures for lenders/servicers in being approved to perform the functions under the Servicer Appraisal Processing Program (SAPP).

An agency may not conduct or sponsor, and a person is not required to respond to a collection of information unless it displays a currently valid OMB control number. The Federal Register Notice with a 60-day comment period soliciting comments on this collection of information was published at Vol. 82, No. 181, on September 20, 2017 pages 44032-44033.

Affected Public: Individuals (employees of lenders making applications).

Estimated Annual Burden: 2 hours.

Estimated Average Burden per Respondent: 5 minutes.

Frequency of Response: On occasion.

Estimated Number of Respondents: 20 per year.

By direction of the Secretary:
Cynthia Harvey-Pryor,
Department Clearance Officer, Office of Quality, Privacy and Risk, Department of Veterans Affairs.

[FR Doc. 2018-00841 Filed 1-18-18; 8:45 am]

BILLING CODE 8320-01-P